DEPARTMENT OF HOMELAND SECURITY

Coast Guard

[USCG-2008-1006]

National Offshore Safety Advisory Committee; Meeting

AGENCY: Coast Guard, DHS.

ACTION: Notice of meeting.

SUMMARY: The National Offshore Safety Advisory Committee (NOSAC) will meet, in New Orleans, LA, to discuss various issues relating to offshore safety and security. The meeting will be open to the public.

DATES: NOSAC will meet on Thursday, November 13, 2008, from 9 a.m. to 3 p.m. The meeting may close early if all business is finished. Written material and requests to make oral presentations should reach the Coast Guard on or before October 30, 2008. Requests to have a copy of your material distributed to each member of the committee should reach the Coast Guard on or before October 30, 2008.

ADDRESSES: NOSAC will meet in the Versailles Ballroom of the Hilton New Orleans Riverside Hotel, 2 Poydras Street, New Orleans, Louisiana. Send written material and requests to make oral presentations to Commander P.W. Clark, Designated Federal Officer, Commandant (CG-5222), U.S. Coast Guard Headquarters, 2100 Second Street, SW., Washington, DC 20593-0001. This notice is available on our online docket, USCG-2008-0188, at http://www.regulations.gov.

FOR FURTHER INFORMATION CONTACT: Commander P.W. Clark, Designated Federal Officer (previously referred to as Executive Director) of NOSAC, or Mr. Jim Magill, Assistant Designated Federal Officer (previously referred to as Assistant Executive Director), telephone 202-372-1414, fax 202-372-1926.

SUPPLEMENTARY INFORMATION: Notice of the meeting is given under the Federal Advisory Committee Act, 5 U.S.C. App. (Pub. L. 92-463).

Agenda of Meeting

The agenda for the November 13, 2008, committee meeting includes the following:

(1) Report on issues concerning the International Maritime Organization (IMO) and the International Organization for Standardization.

(2) Revision of 46 CFR, Subchapter V, Subpart B—Commercial Diving Operations.

(3) MARPOL Annex II Implementation for New and Existing Offshore Supply Vessels (OSVs).

(4) Sandblasting standard for OCS facilities.

(5) Evacuation of Injured Workers from remote Drilling and Production Facilities.

(6) Transportation Worker Identification Credential (TWIC) impact on offshore facilities.

(7) Effect of Hurricane IKE on OCS facilities.

(8) Licensing of Large OSVs.

(9) The LA 1 Project—New Access Road to GOM.

(10) Information regarding notice of arrival on the U.S. Outer Continental Shelf.

Procedural

The meeting is open to the public. Please note that the meeting may close early if all business is finished. At the Chair's discretion, members of the public may make oral presentations during the meeting. If you would like to make an oral presentation at the meeting, please notify the Designated Federal Officer no later than October 30, 2008. Written material for distribution at the meeting should reach the Coast Guard no later than October 30, 2008. If you would like a copy of your material distributed to each member of the committee in advance of the meeting, please submit 25 copies to the Designated Federal Officer no later than October 30, 2008.

Information on Services for Individuals With Disabilities

For information on facilities or services for individuals with disabilities or to request special assistance at the meeting, contact the Executive Director as soon as possible.

Dated: October 2, 2008.
Howard L. Hime,
Acting Director of Commercial Regulations and Standards.

[FR Doc. E8-23772 Filed 10-7-08; 8:45 am]

BILLING CODE 4910-15-P